DEPARTMENT OF JUSTICE

Notice of Lodging of Consent Decree Pursuant to the Comprehensive Environmental Response Compensation and Liability Act (“CERCLA”)

Notice is hereby given that a proposed consent decree in United States v. Royal Recovery Systems, Inc. and Elliot Packer, Civ. No. 02-1148 (WGB), was lodged on March 21, 2002 with the United States District Court for the District of New Jersey. The Consent Decree concerns hazardous waste contamination at the Royal Recovery Systems, Inc. Superfund Site (the “Site”), located in Newark, Essex County, New Jersey. The Consent Decree, which takes into account the Settling Defendants' limited ability to pay, would resolve the liability of Elliot Packer and Royal Recovery Systems, Inc. against whom the United States filed a complaint on behalf of the United States Environmental Protection Agency (“EPA”) for reimbursement of past response costs incurred by the United States in connection with the Site. EPA incurred approximately $342,000 in past response costs relating to this Site. Under the terms of the Consent Decree, the Settling Defendants would be obligated to pay the United States $70,000 plus interest. In addition to this amount, Defendant Packer may be required to pay the United States an additional sum of up to $40,000 in three years.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States v. Royal Recovery Systems, et al., DOJ Ref. #90-11-3-06154.

The proposed consent decree may be examined at the office of the United States Attorney for the District of New Jersey, 502 Federal Building, 970 Broad Street (contact Assistant United States Attorney Susan Cassell); and the Region II Office of the Environmental Protection Agency, 290 Broadway, New York, New York 10007-1866 (contact Assistant Regional Counsel, Muthu Sundram). A copy of the proposed consent decree may be obtained by mail from the Consent Decree Library, P.O. Box 7611, Washington, DC 20044-7611 or by faxing a request to Tonia Fleetwood, fax no. (202) 514-0097, phone confirmation number (202) 514-1547. In requesting a copy please refer to the referenced case and enclose a check in the amount of $6.00 (25 cents per page reproduction costs) for the Consent Decree, payable to the U.S. Treasury.

Ronald Gluck,
Assistant Section Chief, Environmental Enforcement Section, Environment and Natural Resources Division.

[FR Doc. 02-9376 Filed 4-17-02; 8:45 am]

BILLING CODE 4410-15-M